DEPARTMENT OF COMMERCE

National Oceanic and Atmospheric Administration

Proposed Information Collection; Comment Request: Socioeconomics of Maritime Heritage Dive Operators in National Marine Sanctuaries and Proposed Sanctuaries

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 15, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Dr. Danielle Schwarzmann 240-533-0705 danielle.schwarzmann@noaa.gov.

SUPPLEMENTARY INFORMATION:

I. Abstract

This request is for a new information collection to benefit resource managers in sanctuaries and proposed sanctuaries (minimum of two sites) that protect marine heritage resources. Maritime heritage preserves and protects valuable historical, cultural and archaeological resources within coastal, marine and Great Lake environments. Maritime heritage resources include prehistoric sites, shipwrecks and naval battlefields. The National Ocean Service (NOS) proposes to collect information from dive and SCUBA operations to ascertain the operator knowledge, attitudes and perceptions towards the sanctuary or proposed sanctuary and the number of person-days of diving in the sanctuary/proposed sanctuary and the larger region.

Up-to-date socioeconomic data is needed to support the conservation and management goals of marine heritage resources and to satisfy legal mandates under the National Marine Sanctuaries Act (16 U.S.C. 1431 et seq.), Endangered Species Act (16 U.S.C. 1531 et seq.), Marine Mammal Protection Act (16 U.S.C. 1361 et seq.), National Environmental Policy Act (42 U.S.C. 4321), Executive Order 12866 (E.O. 12866), and other pertinent statutes.

ONMS has a data gap in the economic value of maritime heritage resources. The information is about person-days and economic value of diving on maritime heritage resources (such as shipwrecks) is not available to assess the possible economic benefits of maritime heritage protection to the local economy, or the potential impact on marine and Great Lakes recreation businesses. The type of data targeted for this collection; that is, information on person-days of diving, knowledge, attitudes and perceptions of dive operations towards maritime heritage resources and the sanctuary/proposed sanctuary. Thus, current economic information on the importance of dive and SCUBA operations to the local tourism industry is required. The primary focus for the survey will be to gather data on the non-consumptive, market value of dive operations. Specifically, researchers will collect data to determine the contribution of dive operations to the economy of marine heritage resources in sanctuaries and proposed sanctuaries.

II. Method of Collection

On-site interviews will be completed. Sanctuary staff or representatives will contact each operator to set up an appointment to collect the data in person.

III. Data

OMB Control Number: 0648-XXXX.

Form Number: None.

Type of Review: Regular submission (request for a new information collection).

Affected Public: Maritime heritage diver operators.

Estimated Number of Respondents: 50.

Estimated Time per Response: 1 hour.

Estimated Total Annual Burden Hours: 50.

Estimated Total Annual Cost to Public: Other than burden hours there will be no cost to the public.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 13, 2017.
Sarah Brabson,
NOAA PRA Clearance Officer.

[FR Doc. 2017-12568 Filed 6-15-17; 8:45 am]

BILLING CODE 3510-NK-P